DEPARTMENT OF AGRICULTURE

Economic Research Service

Notice of Intent To Seek Approval to Collect Information

AGENCY: Economic Research Service, USDA.

ACTION: Notice and request for comments.

SUMMARY: In accordance with the Paperwork Reduction Act of 1995 (Pub. L. 104-13) and Office of Management and Budget (OMB) regulations at 5 CFR part 1320 (60 FR 44978, August 29, 1995), this notice announces the Economic Research Service's (ERS) intention to request approval for a new information collection from Child and Adult Care Food Program (CACFP) State agencies. The study will collect existing data from the State agencies related to administrative cost reimbursement of sponsoring organizations that administer the family day care homes (FDCH) portion of the Program.

DATES: Comments on this notice must be received by May 25, 2001 to be assured of consideration.

ADDRESSES: Address all comments concerning this Notice to Linda Ghelfi, Food Assistance and Rural Economy Branch, Food and Rural Economics Division, Economic Research Service, U.S. Department of Agriculture, 1800 M Street, NW., Washington, DC 20036-5831, 202-694-5437. Submit electronic comments to lghelfi@ers.usda.gov.

SUPPLEMENTARY INFORMATION: Title: CACFP Administrative Cost Reimbursement Study.

OMB Number: Not yet assigned.

Expiration Date: N/A.

Type of Request: Approval for the collection of existing data from CACFP State agencies pertaining to the sponsoring organizations that administer the Program to family day care homes (FDCH).

Abstract: USDA needs to obtain budgetary and cost information on FDCH sponsoring organizations in order to assess the CACFP administrative cost reimbursement system. Such knowledge will help the USDA determine whether future changes in that reimbursement system are warranted. Currently, very little administrative data are collected at the national level on the operations of the CACFP administrative cost reimbursement system. The last national study of those costs collected data in 1980.

To evaluate how sponsoring organizations are being reimbursed for administering family day care homes, information must be obtained from the State agencies that administer the CACFP. Existing information to be collected from the State agencies includes:

• FY2001 administrative budget and supporting documentation for each sponsoring organization

• FY2000 administrative costs reimbursement; food reimbursement; actual administrative costs, if available; and final budget amount for each sponsoring organization

• Sponsor Characteristics, including type of organization (public vs. private and multi vs. sole purpose), geographic area of operations, length of time in the Program, and numbers of sponsored homes by tier for selected months in FY2000 and FY2001.

USDA's Food and Nutrition Service (FNS) conducted management improvement training during FY2000 that impacted the format, consistency, and detail in the budgets submitted by the sponsoring organizations to their State agencies. For this reason, FY2001 budgets contain more detail on cost categories, such as wages, benefits, office rent, and supplies, than earlier years' budgets. However, in order to provide information on the relationships among reimbursements, budgets, costs, and sponsor characteristics in a timely and useful manner, end-of-year totals and sponsor characteristics are required from FY2000.

The data will be collected on a one-time basis in 2001, to provide USDA and Congress with information to inform policy and program decisions sufficiently in advance of reauthorization.

The FY2001 budgets are expected to be readily available for clerical staff to photocopy. The FY2001 budgets are one to two pages and the budget justification is expected to average approximately 10 pages. This justification explains what costs the sponsor has reported in each budget category and will allow an analysis of budgets by types of expenses. State requests for budget changes or clarifications will most often be a few pages of correspondence between the State and the sponsor. Collection of the correspondence that was required for the State to approve the sponsor's budget at time of initial submission will also help clarify how costs are classified by budget category. The FY2000 totals are expected to be readily available in computer files from which they can be extracted and sent in by e-mail or by mail on either computer-readable diskette or a few pages of computer printout. Sponsor characteristics are expected to be known by State agency staff or easily extracted from files and will be reportable on a form provided to each State office that may be completed electronically or by hand. Burden is minimized by collecting sponsoring organization information from the State agencies rather than from each of the 1,138 individual sponsoring organizations.

Estimate of Burden: We estimate the burden to each State agency to be as follows:

Retrieval, compilation, and sending of electronic information on all its sponsoring organizations—2 hours.

Clerical time to locate, copy, compile, and send information on each sponsoring organization that is not electronically available—30 minutes for each sponsor file.

Respondents: Respondents include staff of State agencies that administer the CACFP.

Estimated Number of Respondents: 53 agencies in total; including 49 State agencies, the Mid-Atlantic FNS Regional Office that administers the CACFP in Virginia, and the CACFP agencies in the District of Columbia, Puerto Rico, and Guam.

Estimated Total Annual Burden on Respondents: Total of 675 hours.

Comments: Comments are invited on (a) whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who are to respond, including the use of appropriate automated, electronic, mechanical, or other technology. Comments should be sent to the address stated in the preamble. All responses to this notice will be summarized and included in the request for Office of Management and Budget (OMB) approval. All comments will also become a matter of public record.

Dated: March 16, 2001.
Susan E. Offutt,
Administrator, Economic Research Service.

[FR Doc. 01-7396 Filed 3-23-01; 8:45 am]

BILLING CODE 3410-18-P